DEPARTMENT OF TRANSPORTATION

Federal Aviation Administration

14 CFR Part 39

[Docket No. FAA-2006-26441; Directorate Identifier 2006-NM-204-AD; Amendment 39-15139; AD 2007-15-10]

RIN 2120-AA64

Airworthiness Directives; Boeing Model 747 Airplanes

AGENCY: Federal Aviation Administration (FAA), Department of Transportation (DOT).

ACTION: Final rule; correction.

SUMMARY: The FAA is correcting a typographical error in an existing airworthiness directive (AD) that was published in the Federal Register on July 30, 2007 (72 FR 41438). The error resulted in certain compliance times being mislabeled as units of flight cycles instead of flight hours. This AD applies to all Boeing Model 747 airplanes. This AD requires an inspection of the No. 2 and No. 3 windows on the left and right sides of the airplane to determine their part numbers, and related investigative and corrective actions if necessary.

DATES: Effective September 21, 2007.

ADDRESSES: The AD docket contains the proposed AD, comments, and any final disposition. You may examine the AD docket on the Internet at http://dms.dot.gov, or in person at the Docket Operations office between 9 a.m. and 5 p.m., Monday through Friday, except Federal holidays. The Docket Operations office (telephone (800) 647-5527) is located on the ground level of the West Building at the DOT street address stated in the ADDRESSES section. This docket number is FAA-2006-26441; the directorate identifier for this docket is 2006-NM-204-AD.

FOR FURTHER INFORMATION CONTACT: Steve Fox, Aerospace Engineer, Airframe Branch, ANM-120S, FAA, Seattle Aircraft Certification Office, 1601 Lind Avenue, SW., Renton, Washington 98057-3356; telephone (425) 917-6425; fax (425) 917-6590.

SUPPLEMENTARY INFORMATION: On July 18, 2007, the FAA issued AD 2007-15-10, amendment 39-15139 (72 FR 41438, July 30, 2007), for all Boeing Model 747-100, 747-100B, 747-100B SUD, 747-200B, 747-200C, 747-200F, 747-300, 747-400, 747-400D, 747-400F, 747SR, and 747SP series airplanes. The AD requires an inspection of the No. 2 and No. 3 windows on the left and right sides of the airplane to determine their part numbers, and related investigative and corrective actions if necessary.

As published, the compliance times in paragraph (g) of AD 2007-15-10 were mislabeled as units of flight cycles instead of flight hours.

No other part of the regulatory information has been changed; therefore, the final rule is not republished in the Federal Register.

The effective date of this AD remains September 4, 2007.

§ 39.13 [Corrected]

In the Federal Register of July 30, 2007, on page 41441, in the 2nd column, paragraph (g) of AD 2007-15-10 is corrected to read as follows:

* * * * *

(g) Where Tables 1, 2, and 3 of paragraph 1.E. of Boeing Alert Service Bulletin 747-56A2012, dated August 24, 2006, specify counting the compliance time from “* * * after the date on this service bulletin,” this AD requires counting the compliance time from the effective date of this AD. After replacing a discrepant window with a new window, do the initial detailed inspection of the new window at the applicable compliance time: (1) within 5,500 flight hours after installing part number (P/N) 65B27042-( ) or 65B27043-( ), or (2) within 22,000 flight hours after installing P/N 65B27046-( ) or 65B27047-( ).

* * * * *

Issued in Renton, Washington, on September 10, 2007.
Ali Bahrami,
Manager, Transport Airplane Directorate, Aircraft Certification Service.

[FR Doc. E7-18472 Filed 9-20-07; 8:45 am]

BILLING CODE 4910-13-P